OFFICE OF PERSONNEL MANAGEMENT

5 CFR Part 532

RIN 3206-AJ61

Prevailing Rate Systems; Definition of Santa Clara, CA, Nonappropriated Fund Wage Area

AGENCY: Office of Personnel Management.

ACTION: Final rule.

SUMMARY: The Office of Personnel Management is issuing a final rule that abolishes the Alameda-Contra Costa, CA, nonappropriated fund (NAF) Federal Wage System wage area and establishes a new Santa Clara, CA, NAF wage area. This change was necessary because the closure of the Army and Air Force Exchange Service Distribution Center in Oakland left the Alameda-Contra Costa wage area without a host activity to conduct a local wage survey. Full-scale surveys for the Santa Clara wage area will be conducted in September of each even-numbered fiscal year.

DATES: Effective Date: This regulation is effective on February 12, 2003.

FOR FURTHER INFORMATION CONTACT: Chenty I. Carpenter, (202) 606-2838; FAX: (202) 606-0824; or e-mail cicarpen@opm.gov.

SUPPLEMENTARY INFORMATION: On July 17, 2002, the Office of Personnel Management (OPM) published an interim rule (67 FR 46839) that abolished the Alameda-Contra Costa, CA, nonappropriated fund (NAF) Federal Wage System (FWS) wage area and established a new Santa Clara, CA, NAF wage area. The interim rule had a 30-day public comment period, during which OPM received no comments. The change was necessary because the closure of the Army and Air Force Exchange Service Distribution Center in Oakland left the Alameda-Contra Costa wage area without a host activity to conduct a local wage survey. The new Santa Clara NAF wage area will now consist of Santa Clara County as the survey area. The area of application for the Santa Clara, CA, wage area will include Alameda, Contra Costa, and San Mateo Counties. A full-scale survey for the Santa Clara wage area was conducted in September 2002.

Under 5 U.S.C. 5343(a), NAF FWS wage area boundaries may not extend beyond the immediate locality where NAF employees work. OPM may establish an NAF wage area under 5 CFR 532.219 when a minimum of 26 NAF wage employees are employed in a survey area and sufficient private employment exists within the survey area to provide adequate data for establishing an NAF wage schedule. Santa Clara County meets the regulatory criteria to be a separate NAF wage area, and the Department of Defense recommended that Santa Clara County be redefined as the sole survey county for the new FWS NAF wage area, and that Alameda, Contra Costa, and San Mateo Counties be defined as areas of application counties.

OPM regulations at 5 CFR 532.219 require a minimum of 1,800 private enterprise employees in establishments within the scope of a NAF survey in order to establish a separate wage area within the survey specifications. Because Alameda, Contra Costa, and San Mateo Counties will have continuing NAF employment and do not meet the regulatory criteria in 5 CFR 532.219 to be separate survey areas, they must be considered areas of application to Santa Clara County. The Department of Defense conducted a full scale survey in Santa Clara County in September 2002. The Federal Prevailing Rate Advisory Committee, the national labor-management committee that advises OPM on FWS pay matters, recommended these changes by consensus.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Accordingly, under the authority of 5 U.S.C. 5343, the interim rule (67 FR 46839) amending 5 CFR part 532 published on July 17, 2002, is adopted as final with no changes.

U.S. Office of Personnel Management.
Kay Coles James,
Director.

[FR Doc. 03-400 Filed 1-10-03; 8:45 am]

BILLING CODE 6325-39-P